DEPARTMENT OF HEALTH AND HUMAN SERVICES

Administration for Community Living

Agency Information Collection Activities; Proposed Collection; Comment Request; Title VI Program Performance Report (OMB 0985-0007)

AGENCY: Administration for Community Living, HHS.

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice.

This notice solicits comments on the Proposed Revised Collection and solicits comments on the information collection requirements related to the extension of the Title VI Program Performance Report.

DATES: Comments on the collection of information must be submitted electronically by 11:59 p.m. (EST) or postmarked by September 14, 2020.

ADDRESSES: Submit electronic comments on the collection of information to Leslie Green Leslie.Green@acl.hhs.gov.

FOR FURTHER INFORMATION CONTACT: Leslie Green, Administration for Community Living, leslie.green@acl.hhs.gov, 202-868-9384.

SUPPLEMENTARY INFORMATION: Under the Paperwork Reduction Act, Federal agencies must obtain approval from the Office of Management and Budget (OMB) for each collection of information they conduct or sponsor. A Collection of information includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

ACL is responsible for administering the Title VI Program Performance Report. The purpose of this data collection is to fulfill the annual programmatic reporting required by the Title VI Part A/B and C grants to American Indians, Alaskan Native and Native Hawaiian Programs to provide nutrition, supportive services and caregiver services to elders and their caregivers.

The proposed data collection tools may be found on the ACL website for review at https://www.acl.gov/about-acl/public-input.

Estimated Program Burden: There are 282 respondents taking 3.49 hours each to complete the response.

ACL estimates the burden associated with this collection of information as follows:

Respondent/data collection activity | Number of respondents | Responses per respondent | Hours per response | Annual burden hours
Title VI PPR | 282 | 1 | 3.49 | 984
Total |  |  |  | 984

Dated: July 8, 2020.
Mary Lazare,
Principal Deputy Administrator.

[FR Doc. 2020-15278 Filed 7-14-20; 8:45 am]

BILLING CODE 4154-01-P